DEPARTMENT OF DEFENSE

Office of the Secretary

[Docket ID: DoD-2024-OS-0069]

Proposed Collection; Comment Request

AGENCY: Office of the Under Secretary of Defense for Personnel and Readiness (OUSD(P&R)), Department of Defense (DoD).

ACTION: 60-Day information collection notice.

SUMMARY: In compliance with the Paperwork Reduction Act of 1995, the Under Secretary of Defense for Personnel and Readiness announces the proposed public information collections and seeks public comment on the provisions thereof. Comments are invited on: whether the proposed collections of information are necessary for the proper performance of the functions of the agencies, including whether the information shall have practical utility; the accuracy of the agencies' estimate of the burden of the proposed information collection; ways to enhance the quality, utility, and clarity of the information to be collected; and ways to minimize the burden of the information collections on respondents, including through the use of automated collection techniques or other forms of information technology.

DATES: Consideration will be given to all comments received by August 19, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on these proposed information collections or to obtain a copy of the proposal and associated collection instruments, please write to DoD, Physical Disability Board of Review (PDBR), 3351 Celmers Lane, Joint Base Andrews 20762, Phyllis M. Joyner, 240-612-4392.

SUPPLEMENTARY INFORMATION:

Title; Associated Form; and OMB Number: Application for Review by the PDBR; DD Form 294; OMB Control Number 0704-0453.

Needs and Uses: The Fiscal Year 2008 National Defense Authorization Act amended Title 10, United States Code by adding Section 1554a. That provision of law directs the Secretary of Defense to establish a board of review to review the disability determinations of covered individuals by Physical Evaluation Boards. Covered individuals are members and former members of the armed forces who, during the period beginning on September 11, 2001, and ending on December 31, 2009, were (1) separated from the armed forces due to unfitness for duty due to a medical condition with a disability rating of 20 percent disabled or less; and (2) are found to be not eligible for retirement. On June 27, 2008, The Department of Defense published DoDI 6040.44, which provides the guidance for this process.

The DD Form 294, “Application for Review by the PDBR of the Rating Awarded Accompanying a Medical Separation from the Armed Forces of the United States,” is designed to collect the information necessary to retrieve the medical separation and Department of Veterans Affairs records and correct military personnel and pay records.

Affected Public: Individuals or households.

Annual Burden Hours: 180.

Number of Respondents: 240.

Responses per Respondent: 1.

Annual Responses: 240.

Average Burden per Response: 45 minutes.

Frequency: On occasion.

Dated: June 12, 2024.
Aaron T. Siegel,
Alternate OSD Federal Register Liaison Officer, Department of Defense.

[FR Doc. 2024-13461 Filed 6-18-24; 8:45 am]

BILLING CODE 6001-FR-P